DEPARTMENT OF HOMELAND SECURITY

Coast Guard

33 CFR Part 100

[Docket No. USCG-2008-0283]

Special Local Regulation: Harvard-Yale Regatta, New London, CT

AGENCY: Coast Guard, DHS.

ACTION: Notice of enforcement of regulation.

SUMMARY: The Coast Guard will enforce the regulation for Regattas and Marine Parades found at 33 CFR 100.101 for the annual Harvard-Yale Regatta, Thames River, New London, CT from 2 p.m. to 5 p.m. on June 14, 2008. This action is necessary to control the anticipated heavy recreational vessel traffic of both event participants and observers, and other waterways users within the immediate vicinity of the event, thus providing for the safety of life and property of the maritime community on the affected navigable waters. During the enforcement period, no person or vessel may enter, transit, or remain in the regulated area within the Thames River, as detailed in 33 CFR 100.101, unless participating in the event or unless authorized by the Coast Guard patrol commander.

DATES: The regulations in 33 CFR 100.101 will be effective from 2 p.m. to 5 p.m. on June 14, 2008.

FOR FURTHER INFORMATION CONTACT: Lieutenant D. Miller, Chief, Waterways Management Division, Coast Guard Sector Long Island Sound at (203) 468-4596.

SUPPLEMENTARY INFORMATION: The Coast Guard will enforce the permanent special local regulation found in 33 CFR 100.101 concerning the Harvard-Yale Regatta, Thames River, New London, CT from 2 p.m. to 5 p.m. on June 14, 2008. Under the provisions of 33 CFR 100.101, a portion of the navigable waters of the Thames River will be closed during the effective period to all persons and vessel traffic, except for vessels participating in the event and local, state or Coast Guard patrol craft. Further, 33 CFR 100.101 provides regulations for mooring, anchoring and transiting near the event race course. The Coast Guard may be assisted by other Federal, State, or local law enforcement agencies in enforcing this regulation.

This notice is issued under the authority of 33 CFR 100.101 and 5 U.S.C. 552(a). In addition to this notice in the Federal Register, public notification will be made via the First Coast Guard District Local Notice to Mariners and marine safety broadcasts.

Dated: April 30, 2008.
D.A. Ronan,
Captain, U.S. Coast Guard, Captain of the Port Long Island Sound.

[FR Doc. E8-10535 Filed 5-12-08; 8:45 am]

BILLING CODE 4910-15-P